DEPARTMENT OF TRANSPORTATION

Surface Transportation Board

[STB Finance Docket No. 33926 (Sub-No. 1)]

The Burlington Northern and Santa Fe Railway Co.—Trackage Rights Exemption—Union Pacific Railroad Co.

AGENCY: Surface Transportation Board.

ACTION: Notice of exemption.

SUMMARY: The Board, under 49 U.S.C. 10502, exempts the trackage rights described in STB Finance Docket No. 33926 ¹ to permit the trackage rights to expire, as they relate to the operations between East Portland, OR, and Chemult, OR, on November 11, 2000.

¹ On September 6, 2000, BNSF filed a notice of exemption under the Board's class exemption procedures at 49 CFR 1180.2(d)(7). The notice covered the agreement by UP to grant temporary overhead trackage rights to BNSF over approximately 245 miles of UP's lines as follows: (1) Between East Portland, OR, in the vicinity of UP's milepost 770.34, and Oakridge, OR, in the vicinity of UP's milepost 580.5 (UP's Brooklyn Subdivision); and (2) between Oakridge, in the vicinity of UP's milepost 580.5 and Chemult, OR, in the vicinity of UP's milepost 502.9 (UP's Cascade Subdivision). See The Burlington Northern and Santa Fe Railway Company—Trackage Rights Exemption—Union Pacific Railroad Company, STB Finance Docket No. 33926 (STB served Sept. 15, 2000). The trackage rights agreement is scheduled to expire on November 11, 2000. The trackage rights operations under the exemption were scheduled to be consummated on September 15, 2000.

DATES: This exemption is effective on November 5, 2000. Petitions to reopen must be filed by October 26, 2000.

ADDRESSES: An original and 10 copies of all pleadings referring to STB Finance Docket No. 33926 (Sub-No. 1) must be filed with the Surface Transportation Board, Office of the Secretary, Case Control Unit, 1925 K Street, NW., Washington, DC 20423-0001. In addition, a copy of all pleadings must be served on petitioners' representatives, Yolanda Grimes Brown, Esq., The Burlington Northern and Santa Fe Railway Company, P.O. Box 961039, Fort Worth, TX 76161-0039, and Robert Opal, Esq., Union Pacific Railroad Company 1416 Dodge Street, Room 830, Omaha, NE 68179.

FOR FURTHER INFORMATION CONTACT: Joseph H. Dettmar, (202) 565-1600. [TDD for the hearing impaired: 1 (800) 877-8339.]

SUPPLEMENTARY INFORMATION: Additional information is contained in the Board's decision. To purchase a copy of the full decision, write to, call, or pick up in person from: Da to Da Office Solutions, Suite 405, 1925 K Street, NW., Washington, DC 20006. Telephone: (202) 466-5530. [Assistance for the hearing impaired is available through TDD services 1 (800) 877-8339.]

Board decisions and notices are available on our website at “WWW.STB.DOT.GOV.”

Decided: September 27, 2000.
By the Board, Chairman Morgan, Vice Chairman Burkes, and Commissioner Clyburn.
Vernon A. Williams,
Secretary.

[FR Doc. 00-25475 Filed 10-5-00; 8:45 am]

BILLING CODE 4915-00-P